DEPARTMENT OF HOMELAND SECURITY

Federal Emergency Management Agency

Disaster Housing Assistance Program (DHAP)-Ike

AGENCY: Federal Emergency Management Agency, DHS.

ACTION: Notice.

SUMMARY: This document provides notice that the Federal Emergency Management Agency (FEMA) and the Department of Housing and Urban Development (HUD) executed an Interagency Agreement (IAA) establishing a grant program called “Disaster Housing Assistance Program (DHAP)-Ike” for Hurricanes Ike and Gustav. DHAP-Ike is a temporary housing rental assistance and case management program for identified individuals and families displaced by Hurricanes Ike and Gustav. Under the IAA, HUD acts as the servicing agency of DHAP-Ike and will begin administration of the program effective November 1, 2008.

DATES: FEMA and HUD executed the Interagency Agreement and established DHAP-Ike for Hurricanes Ike and Gustav on September 23, 2008.

ADDRESSES: Details about DHAP-Ike will be published by HUD in a subsequent Federal Register Notice. In addition, a copy of the full text of the FEMA-HUD IAA can be accessed via the FEMA Web site at http://www.fema.gov. Other related program information on DHAP-Ike is available on the HUD Web site at http://hud.gov/offices/pih/publications/ike.cfm. Periodic updates on DHAP-Ike will be posted on FEMA and HUD's Web sites.

FOR FURTHER INFORMATION CONTACT: Berl D. Jones, Jr., Director, Individual Assistance Division, Disaster Assistance Directorate, Federal Emergency Management Agency, Department of Homeland Security, 500 C Street, SW., Washington, DC 20472, telephone (202) 212-1000 (this is not a toll-free number). Individuals with speech or hearing impairments may access this number through TTY by calling the toll-free Federal Information Relay Service at 800-877-8339.

SUPPLEMENTARY INFORMATION: In September 2008, Hurricanes Ike and Gustav struck the United States causing significant damage to property and the displacement of tens of thousands of individuals and families from their homes and communities. Under section 408 of the Robert T. Stafford Disaster Relief and Emergency Assistance Act, 42 U.S.C. 5174, the Federal Emergency Management Agency (FEMA) disaster housing programs are short-term assistance programs with a limitation of 18 months, unless extended by the President.

Because HUD has the expertise in administering various Federal housing programs, FEMA is relying on HUD's experience to design, implement, and administer DHAP-Ike for Hurricanes Ike and Gustav in coordination with and on behalf of FEMA. Under DHAP-Ike, HUD will provide housing assistance, security and utility deposits, and case management services to individuals and families displaced by Hurricane Gustav and Ike. The local Public Housing Agencies (PHAs), which currently administer the Housing Choice Voucher Program (HCVP) and the Disaster Housing Assistance Program (DHAP) for Hurricanes Katrina and Rita, will be designated by HUD to administer DHAP-Ike in their jurisdictions. PHAs will be awarded grants from FEMA to provide rent subsidies to eligible families for a period not to exceed 17 months commencing November 1, 2008 and ending no later than March 13, 2010.

Families eligible for DHAP-Ike are those identified by FEMA who currently receive or are eligible to receive initial and/or continued rental assistance authorized under section 408 of the Stafford Act, 42 U.S.C. 5174, pursuant to the Presidential major disaster declarations resulting from Hurricane Ike. FEMA will rely on the eligibility standards established for its temporary housing program at 44 CFR 206.113 and 44 CFR 206.114 in determining who is eligible for referral to DHAP-Ike. All eligible families wishing to participate in DHAP-Ike must sign and execute a HUD-provided DHAP lease or addendum to their current lease, with their landlord, which sets forth the new obligations to receive the rental subsidy. Similarly, landlords who agree to participate in DHAP-Ike must sign and execute a Disaster Rent Subsidy Contract (DRSC) with the PHA outlining the new conditions and obligations, in addition to signing a lease addendum with the tenant.

On November 1, 2008, HUD assumed the responsibilities for providing rental assistance and case management to families identified by FEMA. Beginning May 1, 2009, the Incremental Rent Transition (IRT) will be implemented, under which HUD will reduce the amount of rent paid incrementally by $50 and individuals and families are required to contribute $50 towards their rental payment. Every month thereafter, the individual or family's rent contribution will increase in increments of $50, as HUD's provision is reduced by an equal amount, until the program ends in March 2010. The program provides a hardship waiver for the IRT if individuals and families demonstrate they cannot afford their incremental rent increase.

No later than August 1, 2009, individuals and families whose rent burden is less than 30 percent of their post-disaster gross income, taking into account existing mortgages for primary residences that remain uninhabitable, will no longer be eligible for DHAP-Ike. Individuals and families whose rent burden and mortgage exceed 30 percent of their post-disaster income will continue to receive assistance, subject to the IRT, through March 2010 when the program ends. Details of the program, including descriptions of IRT, hardship provision, and 30 percent post-disaster income determinations will be spelled out in the Federal Register Notice and standard operating procedures published by HUD.

The designated PHAs will also provide case management services, which will include a needs assessment and individual development plan (IDP) for each family. The objective of HUD case management services is to promote self-sufficiency for the participating family.

Details about DHAP-Ike will be published by HUD in a subsequent Federal Register Notice. In addition, a copy of the full text of the FEMA-HUD IAA can be accessed via the FEMA Web site at http://www.fema.gov. Other related program information on DHAP-Ike is available on the HUD Web site at http://hud.gov/offices/pih/publications/ike.cfm. Periodic updates on DHAP-Ike will be posted on FEMA and HUD's Web sites.

Authority: Legal authority for DHAP-Ike is based on the Department of Homeland Security's (DHS) general grant authority under section 102(b)(2) of the Homeland Security Act, 6 U.S.C. 112, and sections 306(a), 408(b)(1), and 426 of the Robert T. Stafford Disaster Relief and Emergency Assistance Act (Stafford Act), 42 U.S.C. 5149(a), 5174(b)(1), and 5189d, respectively. As a servicing agency under a grant from FEMA, and consistent with The Economy Act (31 U.S.C. 1535), HUD derives all authority under the program from FEMA and any and all actions originate from FEMA's authority.

Dated: December 5, 2008.
R. David Paulison,
Administrator, Federal Emergency Management Agency.

[FR Doc. E8-29438 Filed 12-11-08; 8:45 am]

BILLING CODE 9111-23-P